DEPARTMENT OF HEALTH AND HUMAN SERVICES

National Health Security Strategy

AGENCY: Office of the Assistant Secretary for Preparedness and Response (ASPR), Department of Health and Human Services (HHS).

ACTION: Request for information.

SUMMARY: The Office of the Assistant Secretary for Preparedness and Response (ASPR), within the U.S. Department of Health and Human Services (HHS), is soliciting public comment regarding national health security threats, challenges, and promising practices to help inform the development of the 2023-2026 National Health Security Strategy (NHSS). Since 2006, Congress has required the Secretary of HHS to develop and submit a 4-year NHSS and implementation plan that describe “potential emergency health security threats and identify the process to be prepared to identify and respond to such threats.” The quadrennial NHSS is a key U.S. Government vehicle for advancing public health and medical emergency capabilities, and serves as a tool to address priority threats, measure progress, identify gaps, and focus action to implement national health security capabilities.

DATES: Comments must be received by March 11, 2022.

ADDRESSES: Comments must be submitted electronically via email to the following email address: NHSS@hhs.gov.

Instructions: Emails to NHSS@hhs.gov in response to this announcement should include `2023-2026 NHSS comments' in the subject line. Responses to the Request for Information may be placed in the body of the email or in an attachment to the email using a standard document format.

Request for Information: HHS/ASPR is preparing to draft the 2023-2026 NHSS. To help inform this strategy, HHS/ASPR is soliciting public comment regarding health security threats, challenges, and promising practices that may warrant being addressed in the 2023-2026 NHSS. We invite your response to the following questions. Please note that you are not limited to the questions below and we welcome additional feedback.

• What are the most critical national health security threats and public health and medical preparedness, response, and recovery challenges that warrant increased attention over the next five years?

• What medium-term and long-term (i.e., over next five years) actions should be taken to mitigate these challenges at the federal government and/or state, local, tribal, and territorial level?

• What public health and medical preparedness, response, and recovery opportunities or promising practices should be capitalized on over the next five years?

Disclaimer and Important Notes: This notice is intended for planning purposes and does not constitute a formal agreement that information from public responses will be included in the 2023-2026 NHSS.

FOR FURTHER INFORMATION CONTACT: Darrin Donato, Chief, Domestic Policy Branch, Division of Policy, Office of Strategy, Policy, Planning, and Requirements, ASPR, HHS, Washington, DC, NHSS@hhs.gov.

Dawn O'Connell,
Assistant Secretary for Preparedness and Response.

[FR Doc. 2022-03046 Filed 2-11-22; 8:45 am]

BILLING CODE 4150-37-P